DEPARTMENT OF THE INTERIOR

National Park Service

[NPS-WASO-NAGPRA-NPS0039028; PPWOCRADN0-PCU00RP14.R50000]

Notice of Intended Repatriation: Western Washington University, Department of Anthropology, Bellingham, WA

AGENCY: National Park Service, Interior.

ACTION: Notice.

SUMMARY: In accordance with the Native American Graves Protection and Repatriation Act (NAGPRA), the Western Washington University (WWU) intends to repatriate a certain cultural item that meets the definition of an unassociated funerary object and that has a cultural affiliation with the Indian Tribes or Native Hawaiian organizations in this notice.

DATES: Repatriation of the cultural item in this notice may occur on or after December 16, 2024.

ADDRESSES: Dr. Judith Pine, Western Washington University, Department of Anthropology, Arntzen Hall 340, 516 High Street, Bellingham, WA 98225, telephone (360) 650-4783, email pinej@wwu.edu.

SUPPLEMENTARY INFORMATION: This notice is published as part of the National Park Service's administrative responsibilities under NAGPRA. The determinations in this notice are the sole responsibility of the WWU, and additional information on the determinations in this notice, including the results of consultation, can be found in the summary or related records. The National Park Service is not responsible for the determinations in this notice.

Abstract of Information Available

A total of one cultural item has been requested for repatriation. The one object of cultural patrimony is a large sandstone abrader.

On August 18, 1977, WWU Master's candidate Jerry Bailey was given permission to conduct a test excavation at registered archaeological site 45SJ84 located in Reid-Prevost Harbor State Park. Certain conditions were outlined by Jan T. Tveten, Assistant Director of Resources Development, Washington State Parks and Recreation Commission (WSPRC). Completion of a final report and shipment of artifactual materials to Fort Warden State Park were two of these conditions (Archaeological Test Excavations at Reid Harbor, Stuart Island, Washington, Published by The Department of Anthropology, WWU, Papers in Archaeology No. 9). This project was conducted as part of Jerry Bailey's M.A. thesis project, A Distributional Study of Three Late Prehistoric Culture Types in the Gulf of Georgia Region.

No hazardous chemicals are known to have been used to treat the item while in the custody of WWU.

Determinations

The WWU has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Lummi Tribe of the Lummi Reservation; Samish Indian Nation; and the Swinomish Indian Tribal Community.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 16, 2024. If competing requests for repatriation are received, the WWU must determine the most appropriate requestor prior to repatriation. Requests for joint repatriation of the cultural items are considered a single request and not competing requests. The WWU is responsible for sending a copy of this notice to the Indian Tribes and Native Hawaiian organizations identified in this notice and to any other consulting parties.

Authority: Native American Graves Protection and Repatriation Act, 25 U.S.C. 3004 and the implementing regulations, 43 CFR 10.9.

Dated: November 5, 2024.
Melanie O'Brien,
Manager, National NAGPRA Program.

[FR Doc. 2024-26455 Filed 11-13-24; 8:45 am]

BILLING CODE 4312-52-P